DEPARTMENT OF ENERGY

Federal Energy Regulatory Commission

[Project No. 620-024]

Notice of Application for Transfer of License, and Soliciting Comments and Motions To Intervene; NorQuest Seafoods, Inc.; City of Chignik

On June 21, 2012, NorQuest Seafoods, Inc. (transferor) and the City of Chignik (transferee) filed an application for the transfer of license for the Chignik Hydroelectric Project (FERC No. 620), located in Chignik Bay, Alaska.

Applicants seek Commission approval to transfer the license for the Chignik Hydroelectric Project from the transferor to the transferee.

Applicants' Contact: Transferor: President, NorQuest Seafoods, Inc., c/o Trident Seafoods Corporation, Attention: Mr. Bob Nelson, General Counsel, 5303 Shilshole Avenue NW., Seattle, WA 98107-4000, email: bobn@tridentseafoods.com. Transferee: Mr. Richard Sharpe, City Manager, City of Chignik, P.O. Box 110, Chignik, AK 99564-0110, email dick.sharpe@yahoo.com.

FERC Contact: Patricia W. Gillis (202) 502-8735, patricia.gillis@ferc.gov.

Deadline for filing comments and motions to intervene: 30 days from the issuance date of this notice. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/ elibrary.asp. Enter the docket number (P-602) in the docket number field to access the document. For assistance, call toll-free 1-866-208-3372.

Dated: July 19, 2012.
Kimberly D. Bose,
Secretary.

[FR Doc. 2012-18159 Filed 7-24-12; 8:45 am]

BILLING CODE 6717-01-P